SECURITIES AND EXCHANGE COMMISSION

Sunshine Act Meetings

Time and Date: Notice is hereby given, pursuant to the provisions of the Government in the Sunshine Act, Public Law 94-409, that the Securities and Exchange Commission staff will hold a public roundtable on Monday, April 23, 2018 at 9:30 a.m.

Place: The roundtable will be held in Multi-Purpose Room LL-006 at the Commission's headquarters, 100 F Street NE, Washington, DC.

Status: The roundtable will begin at 9:30 a.m. and will be open to the public. Seating will be on a first-come, first-served basis. Doors will open at 9:00 a.m. Visitors will be subject to security checks. The roundtable will be webcast on the Commission's website at www.sec.gov.

Matters to be Considered: The Commission staff will host a roundtable on the market structure for thinly-traded exchange-listed securities. The roundtable is open to the public and the public is invited to submit written comments. This Sunshine Act notice is being issued because a majority of the Commission may attend the roundtable.

The agenda for the roundtable will focus on the challenges faced by participants in the market for thinly-traded exchange-listed securities, and potential improvements that might be considered to the market structure for these securities.

Contact Person for more Information: For further information, please contact Brent J. Fields from the Office of the Secretary at (202) 551-5400.

Dated: April 16, 2018.
Brent J. Fields,
Secretary.

[FR Doc. 2018-08254 Filed 4-16-18; 4:15 pm]

BILLING CODE 8011-01-P